COUNCIL ON ENVIRONMENTAL QUALITY

Economic and Environmental Principles and Requirements for Water and Related Land Resources Implementation Studies; Final

AGENCY: Council on Environmental Quality.

ACTION: Notice of Availability of Final Principles and Requirements.

SUMMARY: Section 2031 of the Water Resources Development Act of 2007 (Pub. L. 110-114) directed the Secretary of the Army to revise the “Economic and Environmental Principles and Guidelines for Water and Related Land Resources Implementation Studies” (Principles and Guidelines), dated March 10, 1983, consistent with several considerations enumerated in the Act.

The revised Principles and Guidelines consist of three key components: (1) The Principles and Requirements (formerly called Principles and Standards), setting out broad policy and principles that guide investments; (2) the Interagency Guidelines, providing guidance to Federal agencies for determining the applicability of the Principles and Guidelines and for developing agency-specific implementing procedures for formulating, evaluating, and comparing water resources projects, programs, activities and related actions; and (3) the Agency Specific Procedures, outlining agency-specific procedures for incorporating the Principles and Requirements into agency missions and programs.

This notice is to inform you that the Principles and Requirements, one key component of the Principles and Guidelines, are finalized and available at www.whitehouse.gov/administration/eop/ceq/initiatives/PandG. The Principles and Requirements were developed through a collaborative interagency process that promoted the open exchange of information and perspectives. The process has engaged the public through formal public review and workshops, and included an external peer review by the National Academies of Science as required by the Water Resources Development Act of 2007.

Modernized Principles and Guidelines will improve Federal government decision making related to investment in water resource projects and, thus, improve how our country plans for infrastructure projects.

DATES: The Principles and Requirements were issued on March 18, 2013.

ADDRESSES: www.whitehouse.gov/administration/eop/ceq/initiatives/PandG.

FOR FURTHER INFORMATION CONTACT: Catherine Shuman, Council on Environmental Quality at (202) 395-5750.

SUPPLEMENTARY INFORMATION: Section 2031 of the Water Resources Development Act of 2007 (Pub. L. 110-114) directed the Secretary of the Army to revise the “Economic and Environmental Principles and Guidelines for Water and Related Land Resources Implementation Studies,” dated March 10, 1983, consistent with several considerations enumerated in the Act. The revised Principles and Requirements will provide guidance for agencies to implement the Principles and Guidelines.

Additional information on the revision process is available at www.whitehouse.gov/administration/eop/ceq/initiatives/PandG.

Dated: March 22, 2013.
Nancy H. Sutley,
Chair, Council on Environmental Quality.

[FR Doc. 2013-07087 Filed 3-26-13; 8:45 am]

BILLING CODE 3225-F3-P